DEPARTMENT OF HOUSING AND URBAN DEVELOPMENT

[Docket No. FR-5700-FA-05]

Announcement of Funding Awards for Transformation Initiative: Sustainable Communities Research Grant (SCRGP) Program for Fiscal Year 2013

AGENCY: Office of the Assistant Secretary of Policy Development and Research, HUD.

ACTION: Announcement of funding awards.

SUMMARY: In accordance with Section 102(a)(4)(C) of the Department of Housing and Urban Development (HUD) Reform Act of 1989, this document notifies the public of funding for the Fiscal Year (FY) 2013 Transformative Initiative: Sustainable Communities Research Grant Program (SCRGP). The purpose of this document is to announce the names and addresses of the award winners and the amount of the awards to be used to help complete the research projects developed under this program.

FOR FURTHER INFORMATION CONTACT: Regina Gray, Division of Affordable Housing Research and Technology, Office of Policy Development and Research, U.S. Department of Housing and Urban Development, Room 8132, 451 Seventh Street SW., Washington, DC 20410, Telephone (202) 402-2876. To provide service for persons who are hearing- or speech-impaired, this number may be reached via TTY by dialing the Federal Information Relay Service on (800) 877-8339 or (202) 708-1455. (Telephone numbers, other than “800” TTY numbers, are not toll free.)

SUPPLEMENTARY INFORMATION: The Office of Policy Development and Research (PD&R), under the Assistant Secretary, administered the FY13 Sustainable Communities Research Grant Program (SCRGP) to invite research proposals that build on existing evidence-based scholarship in the broad area of sustainability. Research proposals were submitted in 3 subject categories: (1) Affordable housing development and preservation, (2) transportation and infrastructure planning, and (3) “green” and energy-efficient practices. The Catalog of Federal Domestic Assistance number for this program is 14.523.

On April 16, 2013, HUD posted a Notice of Funding Availability (NOFA) for Fiscal Year 2013 Transformation Initiative: Sustainable Communities Research Grant Program on Grants.gov. The Office of Policy Development and Research reserved $500,000 to fund up to five research grants made available under the Furthering Continuing Resolution Act, 2013 (Pub. L. 113-6 approved March 26, 2013). Applicants could request a minimum amount of $75,000 or a maximum of $125,000. The grant performance period is for 24 months (2 years). Awards under this NOFA will be administered in the form of a Cooperative Agreements.

The Department reviewed, evaluated and scored the applications received based on the rating criteria described in the FY13 NOFA. As a result, HUD has accepted the applications announced below, and in accordance with Section 102(a)(4)(C) of the U.S. Department of Housing and Urban Development Reform Act of 1989 (103 Stat. 1987, U.S.C. 3545). More information about the awardees may be found at www.huduser.org.

Dated: August 20, 2013.
Jean Lin Pao,
General Deputy Assistant Secretary for Policy Development and Research.

Attachment

List of Awardees for Grant Assistance Under the Fiscal Year (FY) 2013 Sustainable Communities Research Grant Program Funding Competition, By Institution, Address, Grant Amount and Point of Contact

1. Bright Power, Inc., Mr. Jonathan Braman, 11 Hanover Square, New York, NY. Grant: $125,000. (Principal Investigator: Mr. Jonathan Braman)

2. The State University of New York at Buffalo, Ms. Mary Kraft, 402 Crofts Hall, Buffalo, NY. Grant: $124,897. (Principal Investigators: Dr. Robert M. Silverman, Dr. Kelly L. Patterson, Dr. Li Yin)

3. The University of Texas at Austin, Ms. Shannon McCain, 101 East 27th Street, Stop A9000, Suite 5.300, Austin. Grant: $124,990. (Principal Investigator: Dr. Elizabeth J. Mueller)

4. The University of Utah at Salt Lake City, Ms. Shauna Peterson, 1471 East Federal Way, Salt Lake City, UT. Grant: $124,807. (Principal Investigators: Dr. Sarah J. Hinners, Dr. Michael A. Larice, Dr. Arthur C. Nelson)

[FR Doc. 2013-21124 Filed 8-28-13; 8:45 am]

BILLING CODE 4210-67-P